DEPARTMENT OF COMMERCE

National Oceanic and Atmospheric Administration

RIN 0648-XA009

Marine Mammals; File No. 14326

AGENCY: National Marine Fisheries Service (NMFS), National Oceanic and Atmospheric Administration (NOAA), Commerce.

ACTION: Notice; issuance of permit amendment.

SUMMARY: Notice is hereby given that the NMFS National Marine Mammal Laboratory (NMML), Seattle, WA (Responsible Party: John Bengton, Ph.D.), has been issued a minor amendment to Permit No. 14326.

ADDRESSES: The permit amendment and related documents are available for review upon written request or by appointment in the following office(s):

Permits, Conservation and Education Division, Office of Protected Resources, NMFS, 1315 East-West Highway, Room 13705, Silver Spring, MD 20910; phone (301) 713-2289; fax (301) 713-0376;

Northwest Region, NMFS, 7600 Sand Point Way NE, BIN C15700, Bldg. 1, Seattle, WA 98115-0700; phone (206) 526-6150; fax (206) 526-6426; and

Alaska Region, NMFS, P.O. Box 21668, Juneau, AK 99802-1668; phone (907) 586-7221; fax (907) 586-7249.

FOR FURTHER INFORMATION CONTACT: Tammy Adams or Amy Sloan, (301) 713-2289.

SUPPLEMENTARY INFORMATION: On August 31, 2009, notice was published in the Federal Register (74 FR 44822) that Permit No. 14326 to conduct research on Steller sea lions (Eumetopias jubatus) had been issued to the above-named applicant under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226). The permit is valid through August 31, 2014, and authorizes takes of Steller sea lions throughout their range in the U.S. during capture, tissue sampling, marking, attachment of scientific instruments, and surveys. The permit also authorizes a limited number of research-related mortalities.

The amended permit allows takes of up to 20 adult female Steller sea lions annually by capture using additional drug combinations in the remotely delivered darts. It does not change the number of animals that may be taken or any other terms and conditions of the permit. The amendment is effective through the original expiration date of the permit.

In compliance with the National Environmental Policy Act of 1969 (42 U.S.C. 4321 et seq.), NMFS determined that the activities proposed are consistent with the Preferred Alternative in the Final Programmatic Environmental Impact Statement for Steller Sea Lion and Northern Fur Seal Research (NMFS 2007), and that issuance of the permit would not have a significant adverse impact on the human environment.

As required by the ESA, issuance of this permit was based on a finding that such permit: (1) Was applied for in good faith; (2) will not operate to the disadvantage of such endangered species; and (3) is consistent with the purposes and policies set forth in section 2 of the ESA.

Dated: October 27, 2010.
Tammy C. Adams,
Acting Chief, Permits, Conservation and Education Division, Office of Protected Resources, National Marine Fisheries Service.

[FR Doc. 2010-27660 Filed 11-1-10; 8:45 am]

BILLING CODE 3510-22-P